DEPARTMENT OF ENERGY

Bonneville Power Administration

Starbuck Power Project

AGENCY: Bonneville Power Administration (BPA), Department of Energy (DOE).

ACTION: Notice of intent to prepare an Environmental Impact Statement.

SUMMARY: This notice announces BPA's intention to prepare a joint National Environmental Policy Act (NEPA)/State Environmental Policy Act (SEPA) EIS in cooperation with the State of Washington Energy Facility Site Evaluation Council (EFSEC) for an electrical interconnection including a new 16-mile 500-kilovolt (kV) transmission line and other facilities associated with a proposed power plant. BPA is the lead Federal agency under NEPA and EFSEC is the lead Washington State agency under SEPA. The Starbuck Power Project is a 1,200-megawatt (MW) generating station proposed by Starbuck Power Company, L.L.C. (SPC) that would be located near the town of Starbuck in Columbia County, Washington. SPC has requested an interconnection and upgrade to BPA's transmission system that would allow firm power delivery to the wholesale power market. BPA proposes to execute an agreement with SPC to provide the interconnection and firm power transmission.

ADDRESSES: To be placed on the project mailing list, including notification of proposed meetings, call toll-free 1-800-622-4520, name this project, and leave your complete name and address. To comment, call toll-free 1-800-622-4519; send an e-mail to the BPA Internet address comment@bpa.gov; or send a letter to Communications, Bonneville Power Administration—KC-7, P.O. Box 12999, Portland, Oregon, 97212.

FOR FURTHER INFORMATION CONTACT: Lou Driessen, Project Manager, Bonneville Power Administration—TNP-3, P.O. Box 3621, Portland, Oregon, 97208-3621; toll-free telephone 1-800-282-3713; direct telephone 503-230-5525; or e-mail lcdriessen@bpa.gov. You may also contact Phil Smith, Environmental Coordinator, Bonneville Power Administration—KEC-4, P.O. Box 3621, Portland, Oregon 97208-3621; toll-free telephone 1-800-282-3713; direct telephone 503-230-3294; or e-mail pwsmith@bpa.gov. Additional information can be found at BPA's web site: www.efw.bpa.gov.

SUPPLEMENTARY INFORMATION: The EIS will assess the environmental consequences of the proposed project, including:

• Interconnection agreement that BPA proposes with SPC;

• Construction and operation of the power plant;

• Construction and operation of an approximately 200-foot, 20-inch-diameter gas line to tie into Pacific Gas & Electric (PG&E) Gas Transmission Northwest's (GTN) pipeline;

• Construction and operation of an on-site well, or in the alternative, an approximately 6-mile long, 4-inch diameter water supply line from the town of Starbuck to the power plant site;

• Construction and operation of a rail spur near the power plant site for use during power plant construction; and

• Construction and operation of an interconnection consisting of a substation and approximately 16 miles of 500-kV transmission line from the substation to Lower Monumental Substation.

The power plant and the gas and power interconnections would be located within Columbia County, Washington. Approximately 1 mile of the new 500-kV transmission line would be located in Columbia County with the remaining 15 miles in Walla Walla County, Washington.

Responsibility for construction and operation of the new facilities is principally with SPC who would build and operate the power plant. However, the interconnection and the new 500-kV transmission line would be constructed under BPA's management, and BPA would be responsible for the operation and maintenance of these facilities. GTN would build and operate the proposed approximately 200-foot gas pipeline that would supply fuel to the power plant.

Proposed Action

The Starbuck Power Project would be a natural-gas-fired combined-cycle combustion turbine power plant with a nominal generating capacity of approximately 1,200 MW. The plant site would be located on approximately 50 acres of a 100-acre site that is zoned for industrial use and which is located approximately 6 miles northwest of Starbuck, Washington, on property under option and owned by the BAR-Z Ranch, a Washington Corporation.

Natural gas would be burned in a gas turbine engine, in which the expanding gases from combustion would turn the turbine's rotor, driving a generator to produce electrical energy. Hot exhaust from the gas turbine would be used to boil water, using a heat recovery steam generator (HRSG). Steam produced by the HRSG turns a steam turbine, which would connect to another generator, producing additional electrical energy.

The Starbuck Power Project would consist of two complete and separate combined cycle power blocks (or “islands”) and associated support facilities. In summary, each block would consist of two gas combustion turbine generators, two HRSGs, one steam turbine generator, and one air-cooled condenser.

Water would be required to generate steam, as well as for sanitary uses. The proposed power plant would require an average water consumption rate of less than 500,000 gallons per day (gpd). SPC proposes to use an on-site well. As an alternative, the project has secured an option to purchase 100 gallons per minute (gpm), or up to 144,000 gpd, of water from the town of Starbuck's existing water right. With this alternative, an approximately 5-mile water pipeline would be constructed from the town of Starbuck to the project site. SPC proposes to locate this line within an abandoned railroad right-of-way that parallels SR-261 from Starbuck to just south of the project site.

SPC proposes that project wastewater and storm water be collected in retention and infiltration ponds located at the south end of the property.

The proposed Starbuck Power Project would deliver electricity to the regional power grid through an interconnection and a new 500-kV transmission line paralleling the existing Lower Monumental-Little Goose No. 1 and No. 2 transmission lines. BPA would also modify the existing Lower Monumental Substation.

Process to Date

BPA is the lead Federal agency for the joint NEPA/SEPA EIS, and EFSEC is the lead Washington State agency. EFSEC has already held open houses introducing the Starbuck Power Project to interested parties in Columbia County and the surrounding area. Subsequent to these meetings, BPA determined that a new 500-kV transmission line was necessary for firm power delivery on the existing transmission system. SPC will prepare an Application for Site Certification and submit it to EFSEC in July 2001. This initial application will address the Starbuck Power Project in detail. BPA and EFSEC will conduct joint scoping meetings after receipt and preliminary review of the initial submission.

Alternatives Proposed for Consideration

Alternatives thus far identified for evaluation in the EIS are (1) the proposed actions, (2) use of the town's well and a proposed water pipeline as an alternative to the on-site well, and (3) no action. Other alternatives may be identified through the scoping process.

Identification of Environmental Issues

EFSEC will prepare an EIS consistent with its responsibilities under Chapter 80.50 of the Revised Code of Washington and Chapter 197-11 of the Washington Administrative Code. BPA has determined in a System Impact Study requested by SPC that, for firm transmission service, the construction of 16 miles of 500-kV transmission line may be required. Such an action triggers a need for BPA to prepare an EIS. Therefore, BPA and EFSEC intend to prepare a joint NEPA/SEPA EIS addressing both the power plant and the associated electric power interconnection and transmission facilities. The principal issues identified thus far for consideration in the Draft EIS are (1) air quality impacts, (2) aesthetic and visual impacts, (3) socio-economic impacts including transportation impacts, (4) wetlands and wildlife habitat impacts, (5) cultural resource impacts, (6) water supply and quality impacts, (7) health and safety impacts, and (8) noise impacts from plant operation. These issues, together with any additional significant issues identified through the scoping process, will be addressed in the EIS. BPA will also use the EIS and NEPA process to address historic preservation and cultural resource issues under Section 106 of the National Historic Preservation Act.

Public Participation

After July 2001, one or more EIS scoping meetings will be held, and a 45-day comment period will be announced, during which affected landowners, concerned citizens, special interest groups, local governments, and any other interested parties are invited to comment on the scope of the proposed EIS. A 30-day notice of the meeting(s), including time and location, will be provided to interested persons. At the meeting(s), BPA and EFSEC will answer questions and accept oral and written comments.

Receiving comments from interested parties will assure that BPA and EFSEC address in the EIS the full range of issues and potentially significant impacts related to the proposed project. When completed, the Draft EIS will be circulated for review and comment, and BPA and EFSEC will hold at least one public comment meeting on the Draft EIS. BPA and EFSEC will consider and respond in the Final EIS to comments received on the Draft EIS.

Issued in Portland, Oregon, on June 4, 2001.
Stephen J. Wright,
Acting Administrator and Chief Executive Officer.

[FR Doc. 01-14989 Filed 6-13-01; 8:45 am]

BILLING CODE 6450-01-P